DEPARTMENT OF TRANSPORTATION

Federal Aviation Administration

14 CFR Part 71

[Airspace Docket No. 00-ANM-32]

Revision of Class E Airspace, Holyoke, CO

AGENCY: Federal Aviation Administration (FAA), DOT.

ACTION:

Final rule.

SUMMARY: This action revises the Class E airspace at Holyoke, CO. This change is necessary because the Airport Reference Point (ARP) coordinates for the Class E5 airspace at the Holyoke Airport have been changed. The legal description of the Holyoke Airport Class E airspace must be changed to reflect the new coordinates. The intended effect of this rule is to provide adequate controlled airspace for Instrument Flight Rules (IFR) operations at Holyoke Airport, Holyoke, CO.

EFFECTIVE DATE: 0901 UTC, October 3, 2002.

FOR FURTHER INFORMATION CONTACT: Ed Haeseker, ANM-520.7 Federal Aviation Administration, Docket No. 00-ANM-32, 1601 Lind Avenue SW, Renton, Washington 98055-4056; telephone number: (425) 227-2527.

SUPPLEMENTARY INFORMATION:

History

On August 29, 2001, the FAA proposed to amend Title 14 Code of Federal Regulations, part 71 (14 CFR part 71) by revising Class E airspace at Holyoke, CO, to reflect a change in the ARP at the Holyoke Airport, Holyoke, CO (66 FR 45659). This action creates Class E5 airspace at Holyoke, CO, to meet current airspace requirements for IFR flight in Holyoke, Colorado. Interested parties were invited to participate in the rulemaking proceeding by submitting written comments on the proposal. No comments were received.

The Rule

This amendment to Title 14 Code of Federal Regulations, part 71 (14 CFR part 71) revises the description of Class E5 airspace at Holyoke, CO, to reflect the change to the ARP coordinates in the legal description of Holyoke Airport. Class E5 controlled airspace is required to contain aircraft executing IFR procedures at Holyoke Airport. The FAA establishes Class E airspace where necessary to contain aircraft transitioning between the terminal and en route environments. This rule is designed to provide for the safe and efficient use of the navigable airspace and to promote safe flight operations under IFR at the Holyoke Airport and between the terminal and en route transition stages.

The area will be depicted on aeronautical charts for pilot reference. The coordinates for this airspace docket are based on North American Datum 83. Class E5 airspace areas extending upward from 700-feet or more above the surface of the earth, are published in Paragraph 6005, of FAA Order 7400.9K dated August 30, 2002, and effective September 16, 2002, which is incorporated by reference in 14 CFR 71.1. The Class E5 airspace designation listed in this document will be published subsequently in the Order.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9K, Airspace Designations and Reporting Points, dated August 30, 2002, and effective September 16, 2002, is amended as follows:

Paragraph 6005 Class E5 airspace areas extending upward from 700-feet or more above the surface of the earth.

* * * * *

ANM CO E5 Holyoke, CO [Revised]

Holyoke Airport, CO

(Lat. 40°34′10″N., long. 102°16′22″W.)

Heginbotham NDB

(Lat. 40°34′53″N., long. 102°16′52.7″W).

That airspace extending upward from 700-feet above the surface within the 6.7-mile radius of the Holyoke Airport, and within 2.5 miles each side of the 325° bearing from the Heginbotham NDB extending from the 6.7-mile radius to 7 miles northwest of the NDB; excluding that airspace within Federal Airways.

Issued in Seattle, Washington, on October 10, 2002.
Raul C. Trevino,
Assistant Manager, Air Traffic Division, Northwest Mountain Region.

[FR Doc. 02-30611 Filed 12-2-02; 8:45 am]

BILLING CODE 4910-13-M